SMALL BUSINESS ADMINISTRATION

[Declaration of Disaster #3553]

State of Texas

Cameron County and the contiguous counties of Hidalgo and Willacy in the State of Texas constitute a disaster area due to excessive rain and flooding that occurred on September 18 and continuing through September 22, 2003. Applications for loans for physical damage as a result of this disaster may be filed until the close of business on December 8, 2003 and for economic injury until the close of business on July 7, 2004 at the address listed below or other locally announced locations: U.S. Small Business Administration, Disaster Area 3 Office, 14925 Kingsport Rd., Fort Worth, TX 76155-2243.

The interest rates are:

| Percent
For Physical Damage:
Homeowners with credit available elsewhere | 5.125
Homeowners without credit available elsewhere | 2.562
Businesses with credit available elsewhere | 6.199
Businesses and non-profit organizations without credit available elsewhere | 3.100
Others (including non-profit organizations) with credit available elsewhere | 5.500
For Economic Injury:
Businesses and small agricultural cooperatives without credit available elsewhere | 3.100

The number assigned to this disaster for physical damage is 355306 and for economic injury the number is 9X2500.

(Catalog of Federal Domestic Assistance Program Nos. 59002 and 59008.)

Dated: October 7, 2003.
Hector V. Barreto,
Administrator.

[FR Doc. 03-25942 Filed 10-10-03; 8:45 am]

BILLING CODE 8025-01-P